DEPARTMENT OF JUSTICE

Notice of Lodging of Consent Decree Under the Clean Water Act

Under 28 CFR 50.7, notice is hereby given that on April 1, 2003, a proposed consent decree (“decree”) in United States v. Colonial Pipeline Company, Civil Action No. 1:00-CV-3142 JTC, was lodged with the United States District Court for the Northern District of Georgia.

In this action, the United States sought civil penalties for seven recent and significant spills from Colonial Pipeline Company's (“Colonial”) 5,500 mile pipeline. The United States also sought injunctive relief to prevent future spills. Under the decree, Colonial will pay a $34 million civil penalty for seven spills that spilled 1.45 million gallons of oil from its pipeline into waters in five states. The $34 million civil penalty will go to the United States' Oil Pollution Liability Trust Fund, which underwrites cleanups nationwide.

Colonial will also require Colonial to designate its entire pipeline as potentially affecting “high consequence areas.” This will subject the entire pipeline to the pipeline integrity regulations of the U.S. Department of Transportation's Office of Pipeline Safety (“OPS”). Under the terms of the settlement, Colonial is also required to (1) inspect its corrosion protection system along the entire pipeline system every five years; (2) repair problems detected in the corrosion protection system to meet the standards developed by the National Association of Corrosion Engineers (NACE); (3) maintain its right-of-ways, including mowing and removing debris; (4) have personnel on site when utility or other excavation is occurring within five feet of the pipeline; and (5) survey and inspect the pipeline where it crosses water, and address areas of the pipeline that are exposed or insufficiently buried.

The Department of Justice will receive for a period of thirty (30) days from the date of this publication comments relating to the decree. Comments should be addressed to the Assistant Attorney General, Environment and Natural Resources Division, PO Box 7611, U.S. Department of Justice, Washington, DC 20044-7611, and should refer to United States v. Colonial Pipeline Company, D.J. Ref. 90-5-1-1-4367.

The decree may be examined at the Office of the United States Attorney, U.S. Courthouse, Suite 1800, 75 Spring Street, SW., Atlanta, Georgia 30303, and at U.S. the U.S. Environmental Protection Agency—Region IV, Atlanta Federal Center, 61 Forsythe Street, Atlanta, Georgia 30303. During the public comment period, the decree may also be examined on the following Department of Justice Web site, http://www.usdoj.gov/enrd/open.html. A copy of the decree may also be obtained by mail from the Consent Decree Library, PO Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $11.25 (25 cents per page reproduction cost) payable to the U.S. Treasury.

Ellen Mahan,
Assistant Chief, Environmental Enforcement Section, Environment and Natural Resources Division.

[FR Doc. 03-8642 Filed 4-8-03; 8:45 am]

BILLING CODE 4410-15-M